DEPARTMENT OF LABOR

Employment and Training Administration

[TA-W-81,387]

Eastman Kodak Company, IPS—Dayton Location, Including On-site Leased Workers From Adecco, Dayton, Ohio; Notice of Termination of Reconsideration Investigation

Pursuant to Section 221 of the Trade Act of 1974, as amended, a reconsideration investigation was initiated in on August 1, 2012 by the Department of Labor on behalf of workers and former workers of Eastman Kodak Company, IPS—Dayton Location, including on-site leased workers from Adecco, Dayton, Ohio.

The worker group on whose behalf the request for reconsideration was filed is eligible to apply for Trade Adjustment Assistance under an amended certification (TA-W-74,813A) which was issued on March 19, 2013. Consequently, the investigation has been terminated.

Signed in Washington, DC, this 26th day of March, 2013.
Del Min Amy Chen,
Certifying Officer, Office of Trade Adjustment Assistance.

[FR Doc. 2013-08137 Filed 4-8-13; 8:45 am]

BILLING CODE 4510-FN-P